INTERNATIONAL TRADE COMMISSION

[Investigation No. 731-TA-1443 (Final)]

Carbon and Alloy Steel Threaded Rod From Taiwan

Determination

On the basis of the record ¹ developed in the subject investigation, the United States International Trade Commission (“Commission”) determines, pursuant to the Tariff Act of 1930 (“the Act”), that an industry in the United States is materially injured by reason of imports of carbon and alloy steel threaded rod (“threaded rod”) from Taiwan, provided for in subheadings 7318.15.50, 7318.15.20, and 7318.19.00 of the Harmonized Tariff Schedule of the United States, that have been found by the U.S. Department of Commerce (“Commerce”) to be sold in the United States at less than fair value (“LTFV”).²

¹ The record is defined in sec. 207.2(f) of the Commission's Rules of Practice and Procedure (19 CFR 207.2(f)).

² 84 FR 67258 (December 9, 2019).

Background

The Commission instituted this investigation effective February 21, 2019, following receipt of countervailing duty and/or antidumping duty petitions filed with the Commission and Commerce on threaded rod from China, India, Taiwan, and Thailand, by Vulcan Threaded Products Inc. (“Vulcan”), Pelham, Alabama. The Commission established a general schedule for the conduct of the final phase of the investigations following notification of a preliminary determination by Commerce that imports of threaded rod from Thailand were being sold at LTFV within the meaning of section 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register of August 27, 2019 (84 FR 44916). The hearing was held in Washington, DC, on October 15, 2019, and all persons who requested the opportunity were permitted to appear in person or by counsel. The Commission subsequently issued its final affirmative determination regarding dumped imports from Thailand on December 5, 2019 (84 FR 67476, December 10, 2019).

³ 84 FR 38597 (August 7, 2019).

Following notification of a final determination by Commerce that imports of threaded rod from Taiwan were being sold in the United States at LTFV,⁴ notice of the supplemental scheduling of the final phase of the Commission's antidumping duty investigation with respect to Taiwan was given by posting copies of the notice in the Office of the Secretary, U.S. International Trade Commission, Washington, DC, and by publishing the notice in the Federal Register of December 16, 2019 (84 FR 68473).

⁴ 84 FR 67258 (December 9, 2019).

The Commission made this determination pursuant to section 735(b) of the Act (19 U.S.C. 1673d(b)). It completed and filed its determination in this investigation on January 23, 2020. The views of the Commission are contained in USITC Publication 5013 (January 2020), entitled Carbon and Alloy Steel Threaded Rod from Taiwan: Investigation No. 731-TA-1443 (Final).

By order of the Commission.
Issued: January 23, 2020.
Lisa Barton,
Secretary to the Commission.

[FR Doc. 2020-01482 Filed 1-28-20; 8:45 am]

BILLING CODE 7020-02-P